FEDERAL COMMUNICATIONS COMMISSION

[WC Docket No. 19-195, 11-10; DA 20-1460; FRS 17313]

Office of Economics and Analytics Reminds Providers That Form 477 Mobile Speed and Coverage Data Are Not Confidential

AGENCY: Federal Communications Commission.

ACTION: Notice.

SUMMARY: In this Public Notice, the Office of Economics and Analytics (Office) reminds mobile broadband service providers that their minimum advertised or expected speed data are not confidential on FCC Form 477, notwithstanding checkbox options in the Form 477 filing application.

DATES: The Commission issued this Public Notice on December 7, 2020.

ADDRESSES: Federal Communications Commission, 45 L Street NE, Washington, DC 20554.

FOR FURTHER INFORMATION CONTACT: Kenneth Lynch, Chief, Industry Analysis Division, Office of Economics and Analytics, (202) 418-7356, Kenneth.Lynch@fcc.gov.

SUPPLEMENTARY INFORMATION: The Office of Economics and Analytics (Office) reminds mobile broadband service providers that their minimum advertised or expected speed data are no longer treated as confidential on FCC Form 477. Speed data will be included in the public releases of provider-specific coverage data, beginning with the December 2019 filing.

In the Digital Opportunity Data Collection First Report and Order, the Commission concluded that minimum advertised or expected speed data filed for mobile broadband services will not be treated as confidential and that such data will be publicly released. The Commission found that the bulk of speed data that providers filed had been treated as confidential and that such treatment “unnecessarily limits the ability of consumers and policy makers to effectively analyze the data submitted.” The Commission also concluded that public release of provider-specific coverage data is “necessary to ensure that consumers can easily use the information that is disclosed to the public” because speed data are “only beneficial if consumers know where the service coverage is available.”

The Commission already makes provider-specific coverage data publicly available on its website by publishing each provider's shapefiles, and Form 477 filers are no longer permitted to request confidential treatment for such information. As the Commission did not subsequently and immediately update the Form 477 filing application to remove the checkbox used to request confidential treatment of these data, some providers may mistakenly believe that confidentiality is available for such data.

Accordingly, the Office reiterates that, notwithstanding the presence of the checkbox in the Form 477 filing application, the Commission has concluded that these data will not be treated as confidential. Moreover, the corresponding Form 477 information that was included in the December 2019 and June 2020 filings will be released no sooner than ten (10) days after Federal Register publication of this Public Notice.

For further information, contact Kenneth Lynch, Chief, Industry Analysis Division, Office of Economics and Analytics, at Kenneth.Lynch@fcc.gov.

Federal Communications Commission.
Marlene Dortch,
Secretary, Office of the Secretary.

[FR Doc. 2020-28781 Filed 12-28-20; 8:45 am]

BILLING CODE 6712-01-P